SMALL BUSINESS ADMINISTRATION

Establishment of the Small Business Lending Advisory Council (Lending Council)

AGENCY: Small Business Administration (SBA).

ACTION: Notice.

SUMMARY: The SBA announces the establishment of the Small Business Lending Advisory Council. The Administrator has determined that establishing the Small Business Lending Advisory Council is necessary and in the public interest.

DATES: The Small Business Lending Advisory Council will operate for two years after the filing date of its charter that will meet the 15 day requirements of the Federal Register Notice, unless otherwise renewed in accordance with FACA.

FOR FURTHER INFORMATION CONTACT: Alejandro Contreras, Acting Director, Office of Financial Assistance, (202) 205-6436 or LendingCouncil@sba.gov. The phone number may also be reached by individuals who are deaf or hard of hearing, or who have speech disabilities, through the Federal Communications Commission's TTY-Based Telecommunications Relay Service teletype service at 711.

SUPPLEMENTARY INFORMATION: This notice announces the establishment of the Small Business Lending Advisory Council (Lending Council) as a Federal Advisory Committee in accordance with the Federal Advisory Committee Act (FACA) (Pub. L. 92-463, 5 U.S.C. 10 et seq.) to provide information, advice, and recommendations to the Administrator on matters broadly related to facilitating greater access and availability of capital for small business, especially in underserved communities; providing feedback and input on pending and enacted changes relevant to the small business lending community; cultivating greater public-private engagement, cooperation, and collaboration; developing and/or evolving SBA programs and services to address long-term capital access gaps faced by small businesses and obstacles faced by the lenders that seek to support them. The Lending Council will only undertake tasks assigned to it by the Administrator. The Federal Register Notice will be published 15 days prior to filing the charter with Congress. This notice is provided in accordance with the Federal Advisory Committee Act.

Dated: April 2, 2024.
Andrienne Johnson,
Committee Management Officer.

[FR Doc. 2024-07328 Filed 4-5-24; 8:45 am]

BILLING CODE 8026-09-P